DEPARTMENT OF DEFENSE

Office of the Secretary

Defense Task Force on Sexual Assault in the Military Services

AGENCY: Office of the Under Secretary of Defense (Personnel and Readiness); DoD.

ACTION: Committee Meeting.

SUMMARY: Pursuant to the Federal Advisory Committee Act of 1972 (5 U.S.C., Appendix, as amended), the Sunshine in the Government Act of 1976 (5 U.S.C. 552b, as amended), and 41 CFR 102-3.150, announcement is made of the following committee meeting:

Name of Committee: Defense Task Force on Sexual Assault in the Military Services (hereafter referred to as the Task Force).

Date: September 19, 2007.

Time: 7:30 a.m. to 5:30 p.m.

Place of Meeting: Crystal Gateway One, 1235 South Clark Street, Washington Headquarters Services (WHS) Conference Room, Suite 940, Arlington, Virginia 22202.

Purpose of the Meeting: The purpose of the administrative work meeting is to: (a) Discuss administrative matters of the Task Force; (b) receive administrative information from the Department of Defense; and (c) complete the appointment of the Task Force Members by administering their oaths of office.

The administrative working meeting will be held at Crystal Gateway One, 1235 South Clark Street, Washington Headquarters Services (WHS) Conference Room, Suite 940, Arlington, Virginia 22202 from 7:30 a.m. to 5:30 p.m. on Wednesday, September 19, 2007. Pursuant to 41 CFR 102-3.160, this Administrative Work Meeting is closed to the public.

Pursuant to 41 CFR 102-3.105(j) and 102-3.140, the public or interested organizations may submit written statements to the Task Force Membership about the Task Force's mission and functions. Written statements may be submitted at any time or in response to the stated agenda of the planned meeting of the Task Force.

All written statements shall be submitted to the Designated Federal Officer (hereafter DFO) for the Task Force. The DFO will ensure that the written statements are provided to the Membership for their consideration. Contact information for the Task Force DFO can be obtained from the GSA's FACA Database— http://www.fido.gov/facadatabase/public.asp.

Pursuant to 41 CFR 102-3.150, the DFO will announce planned meetings of the Task Force. The DFO may also provide additional guidance on the submission of written statements or other materials in response to the stated agenda for the planned meeting in question.

FOR FURTHER INFORMATION CONTACT: Lieutenant Shaka Thorne, JAGC, U.S. Navy, Designated Federal Officer, Defense Task Force on Sexual Assault in the Military Services, 2850 Eisenhower Ave, Suite 100, Alexandria, Virginia 22314, Telephone: (703) 325-6640, Fax: (703) 325-6710/6711, DSN# 221, shaka.thorne@wso.whs.mil.

Dated: August 9, 2007.
C.R. Choate,
Alternate OSD Federal Register Liaison Officer, Department of Defense.

[FR Doc. 07-3988 Filed 8-10-07; 12:32 pm]

BILLING CODE 5001-06-P